FEDERAL COMMUNICATIONS COMMISSION

[CC Docket No. 96-45; DA 03-3112]

Wireline Competition Bureau Seeks Comment on Western Wireless Corporation Petition To Reject Rural Telephone Company Self-Certification Filed by Valor Telecommunications of Texas, LP, for the State of Oklahoma

AGENCY: Federal Communications Commission

ACTION: Notice; solicitation for comments.

SUMMARY: In this document the Commission invites comment on Western Wireless's petition to reject Valor's self-certification as a rural telephone company in the state of Oklahoma.

DATES: Submit comments on or before December 1, 2003 and reply comments on or before December 15, 2003.

ADDRESSES: Federal Communications Commission, 445 12th Street, SW., Washington, DC 20554, Room TW-B204. See Supplemental Information for further filing instructions.

FOR FURTHER INFORMATION CONTACT: Sheryl Todd (202) 418-7400 TTY: (202) 418-0484.

SUPPLEMENTARY INFORMATION: On June 30, 2003, Valor Telecommunications of Texas, LP (Valor) filed a rural self-certification letter stating that it meets the criterion set forth in section 153(37)(D) of the Act for all its study areas in the states of Texas (which includes a small portion in Arkansas), Oklahoma, and New Mexico. Valor had previously self-certified its Texas and New Mexico study areas as rural telephone company study areas on June 27, 2000. Valor states that it now also meets the criterion for certification of its Oklahoma study area as a rural telephone company study area as a result of a merger among Valor Telecommunications of Texas, LP, Valor Telecommunications of Oklahoma, LLC, and Valor Telecommunications of New Mexico, LLC.

On September 16, 2003, Western Wireless Corporation (Western Wireless) filed a petition requesting that the Commission reject Valor's self-certification as a rural carrier in the state of Oklahoma. Western Wireless previously filed a similar petition to reject Valor's self-certification as a rural telephone company in Texas and New Mexico, and the Commission asked for and received public comment on that petition. Western Wireless now claims, similar to its arguments in its petition opposing Valor's self-certifications in Texas and New Mexico, that Valor does not qualify as a rural telephone company in Oklahoma under section 153(37)(D) because Valor was not a local exchange carrier on the date of enactment of the Telecommunications Act of 1996 (1996 Act) and Valor did not have “less than 15 percent of its access lines in communities of more than 50,000” on the date that the 1996 Act was adopted. Western Wireless further argues that any interpretation of section 153(37)(D) that would allow Valor to qualify as a rural telephone company as a consequence of its purchase of exchanges from GTE would subvert the Commission's policy to “prevent carriers from subdividing study areas to gain an advantage under the [universal service] rules.” Western Wireless also argues that it would be anti-competitive for Valor's claimed rural telephone company status to potentially prejudice the Eligible Telecommunications Carrier (ETC) status of competitive entrants. Finally, Western Wireless argues that Valor cannot use an internal corporate reorganization as a means to acquire rural telephone company status.

We invite comment on Western Wireless's petition to reject Valor's self-certification as a rural telephone company in the state of Oklahoma. Pursuant to §§ 1.415 and 1.419 of the Commission's rules, interested parties may file comments on or before December 1, 2003, and reply comments on or before December 15, 2003. Comments may be filed using the Commission's Electronic Comment Filing System (ECFS) or by filing paper copies. See Electronic Filing of Documents in Rulemaking Proceedings, 63 FR 24121, May 1, 1998.

Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Natek, will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission.

Parties also must send three paper copies of their filing to Sheryl Todd, Telecommunications Access Policy Division, Wireline Competition Bureau, Federal Communications Commission, 445 12th Street SW., Room 5-B540, Washington, DC 20554. In addition, commenters must send diskette copies to the Commission's copy contractor, Qualex International, Portals II, 445 12th Street, SW., Room CY-B402, Washington, DC 20054.

Pursuant to § 1.1206 of the Commission's rules, this proceeding will be conducted as a permit-but-disclose proceeding in which ex parte communications are permitted subject to disclosure.

Federal Communications Commission.
Marlene H. Dortch,
Secretary.

[FR Doc. 03-27428 Filed 10-30-03; 8:45 am]

BILLING CODE 6712-01-P